DEPARTMENT OF DEFENSE

Department of the Army; Corps of Engineers

Intent To Prepare a Draft Environmental Impact Statement for the Wilmington Harbor-96 Act, General Reevaluation Report, New Hanover County, NC

AGENCY: Department of the Army, U.S. Army Corps of Engineers, DoD.

ACTION: Notice of intent.

SUMMARY: The Wilmington Harbor-96 Act project is being constructed for the purpose of enhancing commercial shipping the Cape Fear River and Northeast Cape Fear River, and the State Port in Wilmington, New Hanover County, NC. The project, including turning basin and mitigation efforts were originally addressed in an Environmental Impact Statement, Cape Fear—Northeast Cape Fear Rivers Comprehensive Study, Wilmington, NC, dated June 1996, which was supplemented by an Environmental Assessment, Preconstruction Modifications of Authorized Improvements, Wilmington Harbor, NC, dated February 2000. However since then, the need for new project features and mitigation issues have arisen. In order to address these issues, a General Reevaluation Report (GRR) will be prepared, and a Draft Environmental Impact Statement (DEIS) will be included as a part of this process. The GRR and DEIS will address the proposed relocation of a turning basin in the Northeast Cape Fear River, and a reevaluation of alternatives for fish passage at the three locks and dams on the Cape Fear River.

FOR FURTHER INFORMATION CONTACT: Questions about the proposed action and DEIS can be answered by: Mr. Jeff Richter, Environmental Resources Section; U.S. Army Engineer District, Wilmington; Post Office Box 1890; Wilmington, NC 28402-1890; telephone: (910) 251-4636.

SUPPLEMENTARY INFORMATION: The existing basin used for turning ships in the Northeast Cape Fear River is downstream of the major terminal, and there are two bridges between the basin and terminal. Usually the ships transit upstream bow-first through the two bridges, but must back downstream stern-first through the bridges to the turning basin. For safety reasons, the docking pilots requested that the turning basis be relocated upstream of the bridges so ships can proceed bow-first through the bridges in both directions. The most significant issue related to a relocated turning basin is mitigation of dredging impacts to primary nursery areas for marine fisheries.

In order to deepen sections of Wilmington Harbor, blasting has been required to remove rock. This blasting could impact the endangered shortnose sturgeon that inhabits the harbor. To mitigate for this potential impact, fish passage was required at the most downstream of the three Cape Fear River locks and dams. The proposed fish passage plan involved the construction of an approximate 3,800-foot long fish bypass channel around the lock-and-dam. This plan has not been implemented due to lack of funds and real estate issues. During the GRR/DEIS process, additional alternatives will be considered that could include modification or removal or the locks and dams. This would require deauthorization of the lock and dam project. This action may be proposed because there is no longer any commercial traffic using the locks and dams, which is the authorized project purpose. Significant issues related to fish passage include water supply users upstream of the locks and dams and recreational and commercial fisheries.

All private parties and Federal, State, and local agencies having an interest in the study are hereby notified of the intent to prepare a DEIS and are invited to comment at this time. A scoping meeting was held on June 30, 2005 to help determine whether an EIS or EA should be prepared. All comments received as a result of this notice of intent and the scoping meeting will be considered in the preparation of the DEIS.

The lead agency for this project is the U.S. Army Engineer District, Wilmington. Cooperating agency status has not be assigned to, nor requested by, any other agency.

The DEIS is being prepared in accordance with the requirements of the National Environmental Policy Act of 1969, as amended, and will address the relationship of the proposed action to all other applicable Federal and State Laws and Executive Orders.

The DEIS is currently scheduled to be available in October 2007.

Dated: January 10, 2006.
John E. Pulliam, Jr.,
Colonel, EN, Commanding.

[FR Doc. 06-485 Filed 1-18-06; 8:45 am]

BILLING CODE 3710-CE-M